OFFICE OF THE UNITED STATES TRADE REPRESENTATIVE

Determinations Under the African Growth and Opportunity Act; Correction

AGENCY: Office of the United States Trade Representative.

ACTION: Notice; correction.

SUMMARY: The United States Trade Representative (USTR) published a document in the Federal Register of August 4, 2006, concerning a determination under the African Growth and Opportunity Act (AGOA) in respect of Burkina Faso. The document did not expressly include a modification to list Burkina Faso in note 2(d) to Subchapter XIX of chapter 98 of the Harmonized Tariff Schedule of the United States (HTSUS).

FOR FURTHER INFORMATION CONTACT: Elizabeth Baltzan, Office of the General Counsel, Office of the United States Trade Representative, (202) 395-3582.

Correction

In the Federal Register Notice of August 4, 2006, the USTR determined that Burkina Faso had met certain customs requirements under the AGOA. President Bush had by Proclamation 7853 previously designated Burkina Faso as a lesser developed beneficiary country for purposes of what was then Section 112(b)(3)(B) of the AGOA. U.S. Note 2(d) to Subchapter XIX of chapter 98 of the HTSUS provides that countries qualifying for designation as a lesser developed beneficiary country shall be enumerated therein. The Federal Register notice reflecting the USTR's determination in respect of Burkina Faso did not expressly modify that Note to include Burkina Faso. Accordingly, Note 2(d) to subchapter XIX of chapter 98 of the HTSUS is modified by inserting “Burkina Faso” in alphabetical sequence in the list of countries.

Peter F. Allgeier,
Acting United States Trade Representative.

[FR Doc. E9-5595 Filed 3-13-09; 8:45 am]

BILLING CODE 3190-W9-P